DEPARTMENT OF ENERGY

Federal Energy Regulatory Commission

Combined Notice of Filings #1

Take notice that the Commission received the following electric rate filings:

Docket Numbers: ER21-1965-002.

Applicants: Wisconsin Electric Power Company.

Description: Compliance filing: Filing in Compliance with Order Approving Settlement to be effective 7/1/2020.

Filed Date: 10/25/21.

Accession Number: 20211025-5118.

Comment Date: 5 p.m. ET 11/15/21.

Docket Numbers: ER22-114-001.

Applicants: PJM Interconnection, L.L.C.

Description: Tariff Amendment: Errata to correct metadata in ER22-114-000, SA No. 6194; Queue No. AD1-140 to be effective 9/17/2021.

Filed Date: 10/26/21.

Accession Number: 20211026-5046.

Comment Date: 5 p.m. ET 11/16/21.

Docket Numbers: ER22-192-001.

Applicants: Evolugen Trading and Marketing LP.

Description: Tariff Amendment: Supplement to Petition for Market-Based Rate Authorization to be effective 12/22/2021.

Filed Date: 10/26/21.

Accession Number: 20211026-5102.

Comment Date: 5 p.m. ET 11/16/21.

Docket Numbers: ER22-203-000.

Applicants: New York Independent System Operator, Inc.

Description: § 205(d) Rate Filing: Section 205: LIPA Transmission Service Charge to be effective 11/1/2021.

Filed Date: 10/25/21.

Accession Number: 20211025-5114.

Comment Date: 5 p.m. ET 11/15/21.

Docket Numbers: ER22-204-000.

Applicants: Virginia Electric and Power Company

Description: Request for Partial Waiver of Affiliate Restrictions of Virginia Electric and Power Company, et. al.

Filed Date: 10/25/21.

Accession Number: 20211025-5147.

Comment Date: 5 p.m. ET 11/15/21.

Docket Numbers: ER22-205-000.

Applicants: Tri-State Generation and Transmission Association, Inc.

Description: Tariff Amendment: Notice of Cancellation of Rate Schedule No. 263 to be effective 12/27/2021.

Filed Date: 10/26/21.

Accession Number: 20211026-5059.

Comment Date: 5 p.m. ET 11/16/21.

Docket Numbers: ER22-206-000.

Applicants: Tri-State Generation and Transmission Association, Inc.

Description: § 205(d) Rate Filing: Amendment to Rate Schedule No. 61 to be effective 12/27/2021.

Filed Date: 10/26/21.

Accession Number: 20211026-5060.

Comment Date: 5 p.m. ET 11/16/21.

Docket Numbers: ER22-207-000.

Applicants: Alabama Power Company

Description: § 205(d) Rate Filing: CED Timberland Solar Second Amended and Restated LGIA Filing to be effective 10/12/2021.

Filed Date: 10/26/21.

Accession Number: 20211026-5074.

Comment Date: 5 p.m. ET 11/16/21.

Docket Numbers: ER22-208-000.

Applicants: CMC Steel US LLC.

Description: Baseline eTariff Filing: baseline new to be effective 12/1/2021.

Filed Date: 10/26/21.

Accession Number: 20211026-5085.

Comment Date: 5 p.m. ET 11/16/21.

Docket Numbers: ER22-209-000.

Applicants: PJM Interconnection, L.L.C.

Description: § 205(d) Rate Filing: Original WMPA SA No. 6219; Queue No. AF2-144 to be effective 9/27/2021.

Filed Date: 10/26/21.

Accession Number: 20211026-5093.

Comment Date: 5 p.m. ET 11/16/21.

Docket Numbers: ER22-210-000.

Applicants: ENGIE 2020 ProjectCo-NH1 LLC.

Description: Baseline eTariff Filing: Application for Market-Based Rate Authorization, Request for Related Waivers to be effective 12/26/2021.

Filed Date: 10/26/21.

Accession Number: 20211026-5104.

Comment Date: 5 p.m. ET 11/16/21.

Take notice that the Commission received the following qualifying facility filings:

Docket Numbers: QF22-58-000.

Applicants: McAdoo Power & Light Co.

Description: Form 556 of McAdoo Power & Light Co.

Filed Date: 10/26/21.

Accession Number: 20211026-5005.

Comment Date: 5 p.m. ET 11/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2021.
Debbie-Anne A. Reese,
Deputy Secretary.

[FR Doc. 2021-23707 Filed 10-29-21; 8:45 am]

BILLING CODE 6717-01-P